DEPARTMENT OF TRANSPORTATION

Federal Aviation Administration

14 CFR Part 39

[Docket No. FAA-2010-0280; Directorate Identifier 2009-NM-259-AD; Amendment 39-16334; AD 2010-13-03]

RIN 2120-AA64

Airworthiness Directives; The Boeing Company Model 777-200LR and -300ER Series Airplanes

AGENCY: Federal Aviation Administration (FAA), DOT.

ACTION: Final rule.

SUMMARY: We are adopting a new airworthiness directive (AD) for certain Model 777-200LR and -300ER series airplanes. This AD requires doing a high frequency eddy current inspection for cracking of the keyway of the fuel tank access door cutout on the left and right wings between wing rib numbers 8 (wing station 387) and 9 (wing station 414.5), and related investigative and corrective actions if necessary. This AD results from reports of cracks emanating from the keyway of the fuel tank access door cutout of the lower wing skin between wing rib numbers 8 and 9. We are issuing this AD to prevent loss of the lower wing skin load path, which could cause catastrophic structural failure of the wing.

DATES: This AD is effective July 28, 2010.

The Director of the Federal Register approved the incorporation by reference of a certain publication listed in the AD as of July 28, 2010.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Duong Tran, Aerospace Engineer, Airframe Branch, ANM-120S, FAA, Seattle Aircraft Certification Office, 1601 Lind Avenue, SW., Renton, Washington 98057-3356; telephone (425) 917-6452; fax (425) 917-6590.

SUPPLEMENTARY INFORMATION:

Discussion

We issued a notice of proposed rulemaking (NPRM) to amend 14 CFR part 39 to include an airworthiness directive (AD) that would apply to certain Model 777-200LR and -300ER series airplanes. That NPRM was published in the Federal Register on April 2, 2010 (75 FR 16683). That NPRM proposed to require doing a high frequency eddy current inspection for cracking of the keyway of the fuel tank access door cutout on the left and right wings between wing rib numbers 8 (wing station 387) and 9 (wing station 414.5), and related investigative and corrective actions if necessary.

Comments

We gave the public the opportunity to participate in developing this AD. We considered the comment received. Boeing supports the NPRM.

Conclusion

We reviewed the relevant data, considered the comment received, and determined that air safety and the public interest require adopting the AD as proposed.

Costs of Compliance

We estimate that this AD affects 16 airplanes of U.S. registry. We also estimate that it takes 2 work-hours per product to comply with this AD. The average labor rate is $85 per work-hour. Based on these figures, we estimate the cost of this AD to the U.S. operators to be $2,720, or $170 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-13-03 The Boeing Company: Amendment 39-16334. Docket No. FAA-2010-0280; Directorate Identifier 2009-NM-259-AD.

Effective Date

(a) This airworthiness directive (AD) is effective July 28, 2010.

Affected ADs

(b) None.

Applicability

(c) This AD applies to The Boeing Company Model 777-200LR and -300ER series airplanes, certificated in any category, as identified in Boeing Alert Service Bulletin 777-57A0069, dated November 5, 2009.

Subject

(d) Air Transport Association (ATA) of America Code 57: Wings.

Unsafe Condition

(e) This AD results from reports of cracks emanating from the keyway of the fuel tank access door cutout of the lower wing skin between wing rib numbers 8 and 9. The Federal Aviation Administration is issuing this AD to prevent loss of the lower wing skin load path, which could cause catastrophic structural failure of the wing.

Compliance

(f) You are responsible for having the actions required by this AD performed within the compliance times specified, unless the actions have already been done.

Inspection

(g) At the applicable time specified in paragraphs (g)(1) and (g)(2) of this AD, do a high frequency eddy current (HFEC) inspection for cracking of the keyway of the fuel tank access door cutout on the left and right wings between wing rib numbers 8 (wing station 387) and 9 (wing station 414.5), and do all applicable corrective actions including applicable related investigative action (an HFEC inspection for cracking of machined areas), in accordance with the Accomplishment Instructions of Boeing Alert Service Bulletin 777-57A0069, dated November 5, 2009, except as required by paragraph (h) of this AD. Do all applicable related investigative and corrective actions before further flight.

(1) For Group 1, Configuration 1 airplanes, as identified in Boeing Alert Service Bulletin 777-57A0069, dated November 5, 2009: Before the accumulation of 3,500 total flight cycles, or within 500 flight cycles after the effective date of this AD, whichever occurs later.

(2) For Group 1, Configuration 2 airplanes and Group 2 airplanes, as identified in Boeing Alert Service Bulletin 777-57A0069, dated November 5, 2009, on which a crack was found in the cutout keyway when the cutout keyway was changed: Within 1,125 days after the effective date of this AD.

Note 1: For Group 1, Configuration 2 airplanes and Group 2 airplanes, as identified in Boeing Alert Service Bulletin 777-57A0069, dated November 5, 2009, on which no crack was found in the cutout keyway when the cutout keyway was changed: No further action is required by this AD.

Exceptions to Service Bulletin

(h) If any cracking is found during any inspection required by this AD, and Boeing Alert Service Bulletin 777-57A0069, dated November 5, 2009, specifies to contact Boeing for appropriate action: Before further flight, repair the crack using a method approved in accordance with the procedures specified in paragraph (i) of this AD.

Alternative Methods of Compliance (AMOCs)

(i)(1) The Manager, Seattle Aircraft Certification Office (ACO), FAA, has the authority to approve AMOCs for this AD, if requested using the procedures found in 14 CFR 39.19. Send information to ATTN: Duong Tran, Aerospace Engineer, Airframe Branch, ANM-120S, FAA, Seattle ACO, 1601 Lind Avenue SW., Renton, Washington 98057-3356; telephone (425) 917-6452; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

Material Incorporated by Reference

(j) You must use Boeing Alert Service Bulletin 777-57A0069, dated November 5, 2009, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on June 10, 2010.
Jeffrey E. Duven,
Acting Manager, Transport Airplane Directorate, Aircraft Certification Service.

[FR Doc. 2010-14977 Filed 6-22-10; 8:45 am]

BILLING CODE 4910-13-P